DEPARTMENT OF JUSTICE

[OMB Number 1121-0220]

Agency Information Collection Activities; Proposed Collection; Comments Requested; Extension of Currently Approved Collection: Bureau of Justice Assistance Application Form: Public Safety Officers' Educational Assistance

ACTION: 30-Day Notice.

The Department of Justice, Office of Justice Programs, Bureau of Justice Assistance, will be submitting the following information collection request for review and clearance in accordance with the Paperwork Reduction Act of 1995. This proposed information collection is published to obtain comments from the public and affected agencies. This proposed information collection was previously published in the Federal Register Volume 78, Number 46, on pages 1504, on March 8, 2013, allowing for a 60 day comment period.

Comments are encouraged and will be accepted for “thirty days” until July 29, 2013. If you have additional comments, suggestions, or need a copy of the proposed information collection instrument with instructions or additional information, please contact Chris Casto at 202-353-7193, Bureau of Justice Assistance, Office of Justice Programs, U.S. Department of Justice, 810 7th Street NW., Washington, DC, 20531 or by email at Chris.Casto@usdoj.gov. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: Extension of currently approved collection.

(2) The title of the form/collection: Public Safety Officers' Educational Assistance.

(3) The agency form number, if any, and the applicable component of the Department sponsoring the collection: None. Bureau of Justice Assistance, Office of Justice Programs, United States Department of Justice.

(4) Affected public who will be asked or required to respond, as well as a brief abstract:

Primary: Spouses and/or children of public safety officers who were killed or permanently and totally disabled in the line of duty.

Abstract: BJA's Public Safety Officers' Benefits (PSOB) Office will use the PSOEA application information to confirm the eligibility of applicants to receive PSOEA benefits. Eligibility is dependent on several factors, including the applicant having received or being eligible to receive a portion of the PSOB death benefit, or having a family member who received the PSOB disability benefit. Also considered are the applicant's age and the schools being attended. In addition, information to help BJA identify an individual is collected, such as Social Security number and contact numbers and email addresses. The changes to the application form have been made in an effort to streamline the application process and eliminate requests for information that is either irrelevant or already being collected by other means.

Others: None.

(5) An estimate of the total number of respondents and the amount of time needed for an average respondent to respond is as follows: It is estimated that no more than 150 new respondents will apply a year. Each application takes approximately 20 minutes to complete.

(6) An estimate of the total public burden (in hours) associated with the collection is: 33 hours. Total Annual Reporting Burden: 150 × 20 minutes per application = 3000 minutes/by 60 minutes per hour = 60 hours.

If additional information is required, please contact Jerri Murray, Department Clearance Officer, United States Department of Justice, Justice Management Division, Policy and Planning Staff, Two Constitution Square, 145 N Street NE., Room 1407B, Washington, DC 20530.

May 22, 2013.
Jerri Murray,
Department Clearance Officer for PRA, United States Department of Justice.

[FR Doc. 2013-12631 Filed 5-28-13; 8:45 am]

BILLING CODE 4410-18-P